Executive Order 14285 of April 24, 2025

Unleashing America's Offshore Critical Minerals and Resources

By the authority vested in me as President by the Constitution and the laws of the United States of America, it is hereby ordered:

Section 1. Background. The United States has a core national security and economic interest in maintaining leadership in deep sea science and technology and seabed mineral resources. The United States faces unprecedented economic and national security challenges in securing reliable supplies of critical minerals independent of foreign adversary control. Vast offshore seabed areas hold critical minerals and energy resources. These resources are key to strengthening our economy, securing our energy future, and reducing dependence on foreign suppliers for critical minerals. The United States also controls seabed mineral resources in one of the largest ocean areas of the world. Our Nation can, through the exercise of existing authorities and by establishing international partnerships, access potentially vast resources in seabed polymetallic nodules; other subsea geologic structures; and coastal deposits containing strategic minerals such as nickel, cobalt, copper, manganese, titanium, and rare earth elements, which are vital to our national security and economic prosperity.

Our Nation must take immediate action to accelerate the responsible development of seabed mineral resources, quantify the Nation's endowment of seabed minerals, reinvigorate American leadership in associated extraction and processing technologies, and ensure secure supply chains for our defense, infrastructure, and energy sectors.

Sec. 2. Policy. It is the policy of the United States to advance United States leadership in seabed mineral development by:

(a) rapidly developing domestic capabilities for the exploration, characterization, collection, and processing of seabed mineral resources through streamlined permitting without compromising environmental and transparency standards;

(b) supporting investment in deep sea science, mapping, and technology;

(c) enhancing coordination among executive departments and agencies (agencies) with respect to seabed mineral development activities described in this order;

(d) establishing the United States as a global leader in responsible seabed mineral exploration, development technologies, and practices, and as a partner for countries developing seabed mineral resources in areas within their national jurisdictions, including their Exclusive Economic Zones (EEZ);

(e) creating a robust domestic supply chain for critical minerals derived from seabed resources to support economic growth, reindustrialization, and military preparedness, including through new processing capabilities; and

(f) strengthening partnerships with allies and industry to counter China's growing influence over seabed mineral resources and to ensure United States companies are well-positioned to support allies and partners interested in developing seabed minerals responsibly in areas within their national jurisdictions, including their EEZs.

Sec. 3. Strategic Seabed Critical Mineral Access. Within 60 days of the date of this order:

(a) The Secretary of Commerce shall:

(i) acting through the Administrator of the National Oceanic and Atmospheric Administration, and in consultation with the Secretary of State and the Secretary of the Interior, acting through the Director of the Bureau of Ocean Energy Management, expedite the process for reviewing and issuing seabed mineral exploration licenses and commercial recovery permits in areas beyond national jurisdiction under the Deep Seabed Hard Mineral Resources Act (30 U.S.C. 1401 et seq.), consistent with applicable law. The expedited process, consistent with applicable law, should ensure efficiency, predictability, and competitiveness for American companies;

(ii) in coordination with the Secretary of the Interior and the Secretary of Energy, and in consultation with the heads of other relevant agencies, provide a report to the Assistant to the President for Economic Policy, the Chair of the National Energy Dominance Council, and the Vice Chair of the National Energy Dominance Council that identifies:

(A) private sector interest and opportunities for seabed mineral resource exploration, mining, and environmental monitoring in the United States Outer Continental Shelf; in areas beyond national jurisdiction; and in areas within the national jurisdictions of certain other nations that express interest in partnering with United States companies on seabed mineral development; and

(B) private sector interest and opportunities for polymetallic nodule and other seabed mineral resource processing capacity in the United States or on United States-flagged vessels; and

(iii) in consultation with the Secretary of State, the Secretary of the Interior, and the heads of other relevant agencies, and in cooperation with commercial and other non-governmental organizations, develop a plan to map priority areas of the seabed, such as those with abundant or accessible undersea resources, in order to accelerate data collection and characterization, prioritizing areas within the United States Outer Continental Shelf.

(b) The Secretary of the Interior shall:

(i) establish an expedited process for reviewing and approving permits for prospecting and granting leases for exploration, development, and production of seabed mineral resources within the United States Outer Continental Shelf under the Outer Continental Shelf Lands Act (43 U.S.C. 1331 et seq.), consistent with applicable law. The expedited process, consistent with applicable law, should ensure efficiency, predictability, and competitiveness for American companies; and

(ii) identify which critical minerals may be derived from seabed resources and coordinate with the Secretary of Defense and the Secretary of Energy to indicate which critical minerals are essential for applications such as defense infrastructure, manufacturing, and energy.

(c) The Secretary of Commerce, in coordination with the Secretary of State, the Secretary of the Interior, and the Secretary of Energy, shall:

(i) engage with key partners and allies to offer support for seabed mineral resource exploration, extraction, processing, and environmental monitoring in areas within the national jurisdictions of those partners and allies, including by seeking scientific collaboration and commercial development opportunities for United States companies, and by developing a prioritized list of countries for engagement; and

(ii) provide a joint report to the Assistant to the President for Economic Policy, the Chair of the National Energy Dominance Council, and the Vice Chair of the National Energy Dominance Council on the feasibility of an international benefit-sharing mechanism for seabed mineral resource extraction and development that occurs in areas beyond the national jurisdiction of any country.

(d) The Secretary of Defense and the Secretary of Energy shall:

(i) provide a report to the Assistant to the President for Economic Policy, the Chair of the National Energy Dominance Council, and the Vice Chair of the National Energy Dominance Council that addresses the feasibility and any potential benefits or drawbacks of using the National Defense Stockpile for physical or virtual storage of materials derived from seabed polymetallic nodules and of entering offtake agreements for these materials;

(ii) in consultation with the Secretary of Commerce, review and revise existing regulations, consistent with applicable law, to support domestic processing capabilities for seabed mineral resources, and explore the use of grant and loan authorities, the Defense Production Act (50 U.S.C. 4501 et seq.), and other procurement and financing authorities for this purpose; and

(iii) ensure the Strategic and Critical Materials Board of Directors considers seabed mineral resource developments when recommending a strategy for ensuring a secure supply of materials designated as critical to national security to the Secretary of Defense under the Strategic and Critical Materials Stock Piling Act (50 U.S.C. 98 et seq.).

(e) The Chief Executive Officer of the United States International Development Finance Corporation, the President of the Export-Import Bank of the United States, the Director of the Trade and Development Agency, and the heads of other relevant agencies shall provide a joint report to the Assistant to the President for Economic Policy, the Chair of the National Energy Dominance Council, and the Vice Chair of the National Energy Dominance Council that identifies tools to support domestic and international seabed mineral resource exploration, extraction, processing, and environmental monitoring.

Sec. 4. Definitions. As used in this order:

(a) The term “mineral” means a critical mineral as designated pursuant to 30 U.S.C. 1606(a)(3), as well as uranium, copper, potash, gold, and any other element or compound as determined by the Chair of the National Energy Dominance Council.

(b) The term “seabed mineral resources” means polymetallic nodules, cobalt-rich ferromanganese crusts, polymetallic sulfides, heavy mineral sands, phosphorites, and other mineral-bearing materials.

(c) The term “processing” includes the concentration, separation, refinement, alloying, and conversion of minerals into usable forms.

Sec. 5. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

April 24, 2025.

[FR Doc. 2025-07470

Filed 4-28-25; 8:45 am]

Billing code 3395-F4-P